DEPARTMENT OF ENERGY

10 CFR Parts 429 and 430

[EERE-2014-BT-TP-0034]

RIN 1904-AD46

Energy Conservation Program: Test Procedures for Clothes Dryers

AGENCY: Office of Energy Efficiency and Renewable Energy, Department of Energy.

ACTION: Notice of public meeting revision and extension of public comment period.

SUMMARY: On July 23, 2019, the U.S. Department of Energy (“DOE”) published in the Federal Register a notice of proposed rulemaking (“NOPR”) regarding proposals to amend the test procedures for clothes dryers and to request comment on the proposals and other aspects of clothes dryer testing. This notice also announced a webinar to be held on August 14, 2019, and stated that DOE would hold a public meeting on the proposal if one was requested by August 6, 2019. On July 29, 2019, DOE received a comment requesting a public meeting. On August 12, 2019, DOE published a Federal Register notice announcing a public meeting and webinar that will be held on August 28, 2019 and cancelled the previously announced webinar scheduled for August 14, 2019. On August 2, 2019 and August 5, 2019, DOE received subsequent comments requesting to move the webinar and public meeting into September 2019; therefore, DOE is changing the public meeting from August 28, 2019 to September 17, 2019 and extending the public comment period for submitting comments and data on the NOPR by 14 days to October 7, 2019.

DATES: Meeting: DOE will hold a public meeting on Tuesday, September 17, 2019, from 9:00 a.m. to 3:00 p.m. The meeting will also be broadcast as a webinar. In addition, the comment period for the NOPR published on July 23, 2019 (84 FR 35484), is extended. DOE will accept comments, data, and information regarding this proposed rulemaking received no later than October 7, 2019.

ADDRESSES: The public meeting will be held at the U.S. Department of Energy, Forrestal Building, Room 8E-089, 1000 Independence Avenue SW, Washington, DC 20585.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2014-BT-TP-0034. The docket web page contains instructions on how to access all documents, including public comments, in the docket.

FOR FURTHER INFORMATION CONTACT:

Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Elizabeth Kohl, U.S. Department of Energy, Office of the General Counsel, GC-33, 1000 Independence Avenue SW, Washington, DC 20585-0121. Telephone: (202) 586-7796. Email: Elizabeth.Kohl@hq.doe.gov.

For further information on how to submit a comment, review other public comments and the docket, or regarding a public meeting, contact the Appliance and Equipment Standards Program staff at (202) 287-1445 or by email: ApplianceStandardsQuestions@ee.doe.gov.

SUPPLEMENTARY INFORMATION: On July 23, 2019, the U.S. Department of Energy (“DOE”) published in the Federal Register a notice of proposed rulemaking and request for comment regarding proposals to amend the test procedures for clothes dryers. 84 FR 35484. This notice also announced a webinar to be held on August 14, 2019, and stated that DOE would hold a public meeting to discuss the proposals if one was requested by August 6, 2019.

On July 29, 2019, DOE received a comment from the Natural Resources Defense Council, the Northwest Energy Efficiency Alliance, and Pacific Gas and Electric Company requesting that DOE hold an in-person public meeting regarding the proposed amendments to the clothes dryers test procedures.¹ On August 12, 2019, DOE published a Federal Register notice announcing a public meeting and webinar that will be held on August 28, 2019 and cancelled the previously announced webinar scheduled for August 14, 2019. (84 FR 39777)

¹ See document number 17 within docket EERE-2014-BT-TP-0034, available on regulations.gov.

On August 2, 2019 and August 5, 2019, DOE received subsequent comments from Association of Home Appliance Manufacturers (AHAM) requesting to move the webinar and public meeting into September 2019.²

² See document numbers 18 and 19 within docket EERE-2014-BT-TP-0034, available on regulations.gov.

This notice announces that DOE will hold a public meeting to discuss the proposed amendments to the clothes dryers test procedures on September 17, 2019. The public meeting will also be available as a webinar. This notice also extends the public comment period for submitting comments and data on the NOPR by 14 days to October 7, 2019.

See section V, “Public Participation,” of the NOPR published on July 23, 2019, for additional information on participating in the webinar and submitting comments. Id.

A. Attendance at Public Meeting

The time, date, and location of the public meeting are listed in the DATES and ADDRESSES sections at the beginning of this document. If you plan to attend the public meeting, please notify the Appliance and Equipment Standards Program staff at (202) 287-1445 or by email: Appliance_Standards_Public_Meetings@ee.doe.gov.

Please note that foreign nationals visiting DOE Headquarters are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

DOE requires visitors to have laptops and other devices, such as tablets, checked upon entry into the building. Any person wishing to bring these devices into the Forrestal Building will be required to obtain a property pass. Visitors should avoid bringing these devices, or allow an extra 45 minutes to check in. Please report to the visitor's desk to have devices checked before proceeding through security.

Due to the REAL ID Act implemented by the Department of Homeland Security (“DHS”), there have been recent changes regarding ID requirements for individuals wishing to enter Federal buildings from specific states and U.S. territories. DHS maintains an updated website identifying the State and territory driver's licenses that currently are acceptable for entry into DOE facilities at https://www.dhs.gov/real-id-enforcement-brief. Acceptable alternate forms of Photo-ID include a U.S. Passport or Passport Card; an Enhanced Driver's License or Enhanced ID-Card issued by States and territories identified on the DHS website (Enhanced licenses issued by these states are clearly marked Enhanced or Enhanced Driver's License); a military ID; or other Federal government issued Photo-ID card.

B. Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, to the appropriate address shown in the ADDRESSES section at the beginning of this document. The request and advance copy of statements must be received at least one week before the public meeting and may be emailed, hand-delivered, or sent by mail. DOE prefers to receive requests and advance copies via email. Please include a telephone number to enable DOE staff to make a follow-up contact, if needed.

C. Conduct of Public Meeting

DOE will designate a DOE official to preside at the public meeting and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the public meeting. After the public meeting and until the end of the comment period, interested parties may submit further comments on the proceedings and any aspect of the rulemaking.

The public meeting will be conducted in an informal, conference style. DOE will present summaries of comments received before the public meeting, allow time for prepared general statements by participants, and encourage all interested parties to share their views on issues affecting this rulemaking. Each participant will be allowed to make a general statement (within time limits determined by DOE), before the discussion of specific topics. DOE will permit, as time permits, other participants to comment briefly on any general statements.

At the end of all prepared statements on a topic, DOE will permit participants to clarify their statements briefly and comment on statements made by others. Participants should be prepared to answer questions by DOE and by other participants concerning these issues. DOE representatives may also ask questions of participants concerning other matters relevant to this rulemaking. The official conducting the public meeting will accept additional comments or questions from those attending, as time permits. The presiding official will announce any further procedural rules or modification of the above procedures that may be needed for the proper conduct of the public meeting.

A transcript of the public meeting will be included in the docket, which can be viewed as described in the Docket section at the beginning of this document. In addition, any person may buy a copy of the transcript from the transcribing reporter.

Signed in Washington, DC, on August 13, 2019.
Alexander N. Fitzsimmons,
Acting Deputy Assistant Secretary for Energy Efficiency, Energy Efficiency and Renewable Energy.

[FR Doc. 2019-17894 Filed 8-20-19; 8:45 am]

BILLING CODE 6450-01-P